DEPARTMENT OF HOUSING AND URBAN DEVELOPMENT

[Docket No. FR-5332-C-03]

Notice of Availability: Notice of Funding Availability (NOFA) for HUD's Fiscal Year (FY) 2009 Rental Assistance for Non-Elderly Persons With Disabilities; Correction

AGENCY: Office of the Assistant Secretary for Public and Indian Housing, HUD.

ACTION: Notice.

SUMMARY: On April 7, 2010, HUD posted to its Web site and to http://www.grants.gov, its FY2009 Rental Assistance for Non-Elderly Persons with Disabilities NOFA. The NOFA makes available $30 million for incremental Section 8 Housing Choice Vouchers (HCV) for non-elderly disabled families served by entities (which this NOFA will limit to public housing agencies (PHAs)) with demonstrated experience and resources for supportive services). This assistance was made available by the Omnibus Appropriations Act, 2009 (Pub. L. 111-8, approved March 11, 2009). Through this document, HUD announces that it has corrected the NOFA posted on April 7, 2010, and that it has posted the correction on its website. The NOFA is corrected by (1) Clarifying the period of time during which PHAs must meet the PIH Information Center (PIC) reporting requirements; (2) clarifying the requirement that PHAs have achieved as least 15 points under the Section 8 Management Assessment Program (SEMAP); and (3) defining which PHAs “operate a non-HCV program that serves non-elderly disabled families.” The notice correcting these program requirements is available on the HUD Web site at: http://www.hud.gov.http://www.hud.gov/offices/pih/programs/ph/capfund/ocir.cfm).

FOR FURTHER INFORMATION CONTACT: Questions regarding specific HCV program requirements should be directed to Phyllis Smelkinson by phone at 202-402-4138 or via email at Phyllis.A.Smelkinson@hud.gov or to the NOFA Information Center at 800-HUD-8929 (a toll-free number). Persons with hearing or speech impairments may access these numbers via TTY by calling the Federal Information Relay Service at 800-877-8339. The NOFA Information Center is open between the hours of 10 a.m. and 6:30 p.m. eastern time, Monday through Friday, except federal holidays.

Dated: June 7, 2010.
Deborah Hernandez,
General Deputy Assistant Secretary for Public and Indian Housing.

[FR Doc. 2010-14103 Filed 6-10-10; 8:45 am]

BILLING CODE 4210-67-P